DEPARTMENT OF THE INTERIOR

Bureau of Land Management

[AK-962-1410-HY-P]

Alaska Native Claims Selection, AA-6986-B and AA-6986-C; Notice for Publication

In accordance with Departmental regulations 43 CFR 2650.7(d), notice is hereby given that a decision to issue conveyance under the provisions of section 14(b) of the Alaska Native Claims Settlement Act of December 18, 1971, (ANCSA), 43 U.S.C. 1601, 1613(b), will be issued to Cape Fox Corporation for approximately 745 acres. The lands involved are in the vicinity of Ketchikan, Alaska.

Serial No. | Land description | Acreage
AA-6986-B and AA-6986-C | Cooper River Meridian, Alaska: T. 74 S., R, 90 E., Secs., 4, 5, 8, 9 and 10 | 724.00

A notice of the decision will be published once a week, or four (4) consecutive weeks, in the Ketchikan Daily News. Copies of the decision may be obtained by contacting the Alaska State Office of the Bureau of Land Management, 222 West Seventh Avenue, #13, Anchorage, Alaska 99513-7599 ((907) 271-5060).

Any party claiming a property interest which is adversely affected by the decision, shall have until July 3, 2000, to file an appeal. However, parties receiving service by certified mail shall have 30 days from the date of receipt to file an appeal. Appeals must be filed in the Bureau of Land Management at the address identified above, where the requirements for filing an appeal may be obtained. Parties who do not file an appeal in accordance with the requirements in 43 CFR part 4, subpart E, shall be deemed to have waived their rights.

Glenn C. Elliott,
Land Law Examiner, Branch of ANCSA Adjudication.

[FR Doc. 00-13792 Filed 6-1-00; 8:45 am]

BILLING CODE 4310-$$-M